DEPARTMENT OF THE INTERIOR

Bureau of Ocean Energy Management

Notice of Availability of the Proposed Notice of Sale for Gulf of Mexico Outer Continental Shelf Oil and Gas Region-Wide Lease Sale 251

AGENCY: Bureau of Ocean Energy Management, Interior.

ACTION: Notice of Availability of the Proposed Notice of Sale for Gulf of Mexico Outer Continental Shelf Oil and Gas Region-Wide Lease Sale 251.

SUMMARY: The Bureau of Ocean Energy Management (BOEM) announces the availability of the Proposed Notice of Sale (NOS) for the proposed Gulf of Mexico (GOM) Outer Continental Shelf (OCS) Oil and Gas Region-wide Lease Sale 251 (GOM Region-wide Sale 251). This Notice is published pursuant to BOEM's regulations. With regard to oil and gas leasing on the OCS, the Secretary of the Interior, pursuant to section 19 of the Outer Continental Shelf Lands Act, provides Governors of affected states the opportunity to review and comment on the Proposed NOS. The Proposed NOS sets forth the proposed size, timing, and location of the sale, including lease stipulations, terms and conditions, minimum bids, royalty rates, and rental rates.

DATES: Governors of affected states may comment on the size, timing, and location of proposed GOM Region-wide Sale 251 within 60 days following their receipt of the Proposed NOS. The Final NOS will be published in the Federal Register at least 30 days prior to the date of bid opening. Bid opening is currently scheduled for August 15, 2018.

ADDRESSES: The Proposed NOS for GOM Region-wide Sale 251 and Proposed NOS Package containing information essential to potential bidders may be obtained from the Public Information Unit, Gulf of Mexico Region, Bureau of Ocean Energy Management, 1201 Elmwood Park Boulevard, New Orleans, Louisiana 70123-2394; telephone: (504) 736-2519. The Proposed NOS and Proposed NOS Package also are available for downloading or viewing on BOEM's website at http://www.boem.gov/Sale-251/.

FOR FURTHER INFORMATION CONTACT: Dr. Andrew Krueger, Acting Chief, Leasing Management and Policy Division, 703-787-1554, andrew.krueger@boem.gov.

Authority: 43 U.S.C. 1345 and 30 CFR 556.304(c).

Dated: March 28, 2018.
Walter D. Cruickshank,
Acting Director, Bureau of Ocean Energy Management.

[FR Doc. 2018-06730 Filed 4-2-18; 8:45 am]

BILLING CODE 4310-MP-P